DEPARTMENT OF ENERGY

Federal Energy Regulatory Commission

[Docket No. IC12-13-000]

Commission Information Collection Activities (FERC-915); Comment Request; Extension

AGENCY: Federal Energy Regulatory Commission.

ACTION: Notice of information collection and request for comments.

SUMMARY: In compliance with the requirements of the Paperwork Reduction Act of 1995, 44 U.S.C. 3506(c)(2)(A), the Federal Energy Regulatory Commission (Commission or FERC) is soliciting public comment on the currently approved information collection, FERC-915, Public Utility Market-Based Rate Authorization Holders—Records Retention Requirement.

DATES: Comments on the collection of information are due July 16, 2012.

ADDRESSES: You may submit comments (identified by Docket No. IC12-13-000) by either of the following methods:

• eFiling at Commission's Web Site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION: Title: FERC-915 and Public Utility Market-Based Rate Authorization Holders—Records Retention Requirement.

OMB Control No.: 1902-0223.

Type of Request: Three-year extension of the FERC-915 information collection requirements with no changes to the current reporting requirements.

Abstract: The Commission has the regulatory responsibility under section 205 of the Federal Power Act (FPA) to ensure that wholesale sales of electricity are just and reasonable and provided in a non-discriminatory manner. The Commission uses the information maintained by the respondents under FERC-915 to monitor the entities' sales, ensure that the prices are just and reasonable, maintain the integrity of the wholesale jurisdictional sales markets, and ensure that the entities comply with the requirements of the FPA (i.e., the Commission's regulations) and any orders authorizing market-based rate sales.

Type of Respondents: Public Utility Market-Based Rate Authorization Holders.

Estimate of Annual Burden: ¹ The Commission estimates the total Public Reporting Burden for this information collection as:

¹ Burden is defined as the total time, effort, or financial resources expended by persons to generate, maintain, retain, or disclose or provide information to or for a Federal agency. For further explanation of what is included in the information collection burden, reference 5 Code of Federal Regulations 1320.3.

² Electric utilities with approved market-based rate authority— http://www.ferc.gov/industries/electric/gen-info/mbr/list.asp as of 4/30/2012.

FERC-915 (IC12-13-000)—Public Utility Market-Based Rate Authorization Holders—Records Retention Requirement
| Number of respondents | Number of responses per respondent | Total number of responses | Average burden hours per response | Estimated total annual burden
| (A) | (B) | (A) × (B) = (C) | (D) | (C) × (D)
Electric Utilities with Market-Based Rate Authority | ² 1,730 | 1 | 1,730 | 1 | 1,730

The total estimated annual cost burden to respondents is $386,073 [$32,870 (labor costs) + $315,792 (record retention/storage cost) + $37,411 (electronic record-keeping cost) = $386,073].

• Labor costs: 1,730 hours * $19/hours ³ = $32,870.

³ 2012 average hourly wage of filing clerk working within an electric utility.

• Record retention/storage cost (using an estimate of 48,891 cubic feet): $315,792.⁴

⁴ The Commission bases this figure on industry archival storage costs.

• Electronic record retention/storage cost: $37,411.25 [1,730 hours ÷ 2 = 865 hours * $28/hour ⁵ = $24,220; ⁶ electronic record storage cost: 865 * $15.25/year ⁷ = $13,191; total electronic record storage cost: $37,411].

⁵ The Commission bases the $28/hour figure on a FERC staff study that included estimating public utility recordkeeping costs.

⁶ Only 50% of records are retained in electronic formats.

⁷ Per entity; the Commission bases this figure on the estimated cost to service and to store 1 GB of data (based on the aggregated cost of an IBM advanced data protection server).

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: May 10, 2012.
Kimberly D. Bose,
Secretary.

[FR Doc. 2012-11831 Filed 5-15-12; 8:45 am]

BILLING CODE 6717-01-P